DEPARTMENT OF AGRICULTURE

Forest Service

Caribou-Targhee National Forest, ID; Supplemental Environmental Impact Statement for the Targhee Revised Forest Plan With Proposed Forest Plan Amendment

AGENCY: Forest Service, USDA.

ACTION: Notice of intent to prepare a supplemental environmental impact statement.

SUMMARY: The Caribou-Targhee National Forest is proposing to prepare a Supplemental Environmental Impact Statement (SEIS) to the Targhee Revised Forest Plan (FEIS) to disclose effects of a proposed amendment to the TRFP to address Plan direction for forested vegetation that presently does not reflect the ecological capability of forest ecosystems found on the Targhee National Forest and to also clarify TRFP direction on snags.

DATES: Comments concerning the scope of the analysis must be received within 45 days from the date of this publication. The draft supplemental environmental impact statement is expected July of 2008 and the final supplemental environmental impact statement is expected November 2008.

ADDRESSES: Send written comments to Robbin Redman, Forest Planner, Caribou-Targhee National Forest, 1405 Hollipark Drive, Idaho Falls, Idaho. Electronic comments can be sent to comments-intermtn-caribou-targhee@fs.fed.us.

FOR FURTHER INFORMATION CONTACT: Robbin Redman, Forest Planner, Caribou-Targhee National Forest, 1405 Hollipark Drive, Idaho Falls, Idaho 83401 or telephone (208) 557-5821.

Purpose and Need for Action

The Caribou-Targhee National Forest (C-T) has completed an assessment of forest vegetation for the Targhee portion of the C-T and in addition to this assessment the Forest has previously completed identification of the properly functioning condition (PFC) for forested landscapes in the Madison-Pitchstone Plateau Subsection. Scientific research papers published after the TRFP and PFC were also completed that help the Forest to identify desired conditions that better match the ecological capabilities of forested vegetation including a range of amounts and distribution of old growth and late seral structural stages by forest type.

The results of the information discussed above indicate a need to amend guidance in the TRFP for old growth and late seral structural stages to better describe desired conditions in the TRFP for old growth and late seral structural stages. Specifically, review of existing information and TRFP direction indicates the following:

The TRFP established guidelines for old growth and late seral forest stages that suggest minimum percentages of forested acres of old growth and late seral forest be present in each principal watershed. Presence and persistence of late seral stages and old growth are highly dependent on natural disturbance cycles that vary with forest type. For example, several principal watersheds are dominated by the lodgepole pine forest type, which rarely develops old growth conditions on the Targhee National Forest. Natural disturbance cycles in lodgepole pine forest such as insects, disease, and fire recur frequently enough to preclude development of old-growth conditions in most of this type. Therefore, the old growth and late seral guidelines presently in the TRFP do not reflect the ecological capability of these forest ecosystems.

Similarly, several principal watersheds have a large component of the aspen forest type. On the Targhee, aspen is primarily seral to conifer. Stable aspen is rare and limited to harsh sites generally along ecotones with poor growing conditions where conifer cannot establish. Absent disturbances in seral types, these aspen stands will eventually be replaced by conifer types and it is unlikely that late seral or old growth aspen stands will develop or persist. Even though the ecological capability of these forest types is different from others such as spruce/fir the Forest is still proposing to manage for old growth and replacement old growth in these forest types, this would be for vegetation diversity.

Recent insect outbreaks have changed the number and distribution of snags over much of the Targhee NF. Currently TRFP snag direction requires several levels of analysis of snags: at the prescription area, at the watershed level and at a 100 acre level. This direction will be reviewed and adjusted to reflect current conditions and allow for wildlife habitat needs.

Proposed Action

The Caribou-Targhee National Forest is proposing to amend the TRFP with regard to Plan direction for old growth and late seral forested vegetation. The Proposed old growth direction will be to manage for ten percent of forested acres in a combination of old growth and replacement old growth in ecological subsections. The old growth would meet Region 4 Characteristics of Old Growth Forests definitions. The Forest is also proposing to clarify snag direction in the Plan to allow more ease in implementation while still providing for wildlife habitat needs.

Possible Alternatives

The Forest has developed the Proposed Action and the no-action alternative which is to continue with current TRFP direction.

Lead and Cooperating Agencies

The Caribou-Targhee National Forest is the lead agency for this project.

Responsible Official

The responsible official is: Larry Timchak, Forest Supervisor, Caribou-Targhee National Forest, 1405 Hollipark Drive, Idaho Falls, Idaho 83401.

Nature of Decision To Be Made

Given the purpose and need, the deciding officer will decide whether or not to amend the Targhee Revised Forest Plan with regard to TRFP direction for old growth and late seral structural stages and to clarify TRFP snag direction.

Scoping Process

The C-T Forest is now seeking comments on this proposal and will seek comments on the Draft Supplemental Environmental Impact Statement when it becomes available.

Comment Requested

This notice of intent initiates the scoping process which guides the development of the supplemental environmental impact statement. The Forest is seeking comments that may be used to develop alternatives to the Proposed Action. We are seeking specific comments on snag requirements for cavity nesters for the TRFP, specifically management guidance for retention of snags and specific comments on a more appropriate percentage of old growth and at what level it is appropriate to be maintained for vegetation diversity. To be most helpful comments should include rationale for any recommendations.

Early Notice of Importance of Public Participation in Subsequent Environmental Review: A draft supplemental environmental impact statement will be prepared for comment. The comment period on the draft supplemental environmental impact statement will be 45 days from the date the Environmental Protection Agency publishes the notice of availability in the Federal Register.

The Forest Service believes, at this early stage, it is important to give reviewers notice of several court rulings related to public participation in the environmental review process. First, reviewers of draft supplemental environmental impact statements must structure their participation in the environmental review of the proposal so that it is meaningful and alerts an agency to the reviewer's position and contentions. Vermont Yankee Nuclear Power Corp. v. NRDC, 435 U.S. 519. 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: May 14, 2008.
Lawrence Timchak,
Forest Supervisor.

[FR Doc. E8-11248 Filed 5-20-08; 8:45 am]

BILLING CODE 3410-11-M